DEPARTMENT OF HEALTH AND HUMAN SERVICES

Centers for Disease Control and Prevention

Advisory Committee on Immunization Practices: Meeting

In accordance with section 10(a)(2) of the Federal Advisory Committee Act (Pub. L. 92-463), the Centers for Disease Control and Prevention (CDC) announces the following committee meeting:

Name: Advisory Committee on Immunization Practices (ACIP).

Times and Dates: 8:30 a.m.-6:30 p.m., June 21, 2000. 8 a.m.-4:30 p.m., June 22, 2000.

Place: Four Points Hotel by Sheraton, 1850 Cotillion Drive, Atlanta, Georgia 30338.

Status: Open to the public, limited only by the space available.

Purpose: The Committee is charged with advising the Director, CDC, on the appropriate uses of immunizing agents. In addition, under 42 U.S.C. § 1396s, the Committee is mandated to establish and periodically review and, as appropriate, revise the list of vaccines for administration to vaccine-eligible children through the Vaccines for Children (VFC) program, along with schedules regarding the appropriate periodicity, dosage, and contraindications applicable to the vaccines.

Matters To Be Discussed: The agenda will include a discussion on the ACIP policies and procedures; ACIP recommendations for the pneumococcal conjugate vaccine; vaccine additive: aluminum update; vaccine additive: thimerosal; vaccines and autism; bioterrorism working group; general recommendations; anaphylaxis after MMR due to gelatin; progress report on vaccine identification standards initiative; status of high-speed needle-free jet injectors for mass vaccination campaigns; update on Geneva meeting on rotavirus vaccination; Vaccines for Children program update; adult working group: pneumococcal polysaccharide update; CDC/FDA report on two dose schedule for hepatitis B for adolescent; update on influenza vaccine supply; Global Alliance for Vaccines and Immunization: progress in supporting global immunization programs and introduction of new vaccines; Nabi an update from the Food and Drug Administration; update from the National Center for Infectious Diseases; update from the National Immunization Program; update from the Vaccine Injury Compensation Program; update from the National Vaccine Program. Other matters of relevance among the committee's objectives may be discussed.

Agenda items are subject to change as priorities dictate.

Contact Person for More Information: Gloria A. Kovach, Program Analyst, Epidemiology and Surveillance Division, National Immunization Program, CDC, 1600 Clifton Road, NE, m/s E61, Atlanta, Georgia 30333. Telephone 404/639-8096.

The Director, Management Analysis and Services office has been delegated the authority to sign Federal Register notices pertaining to announcements of meetings and other committee management activities for both the Centers for Disease Control and Prevention and the Agency for Toxic Substances and Disease Registry.

Dated: June 8, 2000.
Carolyn J. Russell,
Director, Management Analysis and Services Office, Centers for Disease Control and Prevention.

[FR Doc. 00-14944 Filed 6-12-00; 8:45 am]

BILLING CODE 4163-18-P